DEPARTMENT OF HOMELAND SECURITY

U.S. Customs and Border Protection

[CBP Dec. 16-07]

Tuna-Tariff Rate Quota; the Tariff-Rate Quota for Calendar Year 2016 Tuna Classifiable Under Subheading 1604.14.22, Harmonized Tariff Schedule of the United States (HTSUS)

AGENCY: U.S. Customs and Border Protection, Department of Homeland Security.

ACTION: Announcement of the quota quantity of tuna in airtight containers for Calendar Year 2016.

SUMMARY: Each year, the tariff-rate quota for tuna described in subheading 1604.14.22, Harmonized Tariff Schedule of the United States (HTSUS), is calculated as a percentage of the tuna in airtight containers entered, or withdrawn from warehouse, for consumption during the preceding Calendar Year. This document sets forth the tariff-rate quota for Calendar Year 2016.

DATES: Effective Dates: The 2016 tariff-rate quota is applicable to tuna in airtight containers entered, or withdrawn from warehouse, for consumption during the period January 1, 2016 through December 31, 2016.

FOR FURTHER INFORMATION CONTACT: Headquarters Quota Branch, Interagency Collaboration Division, Trade Policy and Programs, Office of International Trade, U.S. Customs and Border Protection, Washington, DC 20229-1155, (202) 863-6560.

Background

It has been determined that 15,350,636 kilograms of tuna in airtight containers may be entered, or withdrawn from warehouse, for consumption at the rate of 6.0 percent ad valorem under subheading 1604.14.22, Harmonized Tariff Schedule of the United States (HTSUS) during the Calendar Year 2016. Any such tuna which is entered, or withdrawn from warehouse, for consumption during the current calendar year in excess of this quota will be dutiable at the rate of 12.5 percent ad valorem under subheading 1604.14.30 HTSUS.

Dated: March 23, 2016.
Brenda B. Smith,
Assistant Commissioner, Office of International Trade.

[FR Doc. 2016-06944 Filed 3-25-16; 8:45 am]

BILLING CODE 9111-14-P